DEPARTMENT OF STATE

[Public Notice: 12538]

Notice of Renewal of Advisory Committee Charter

AGENCY: Department of State.

ACTION: Charter renewal.

SUMMARY: The Department of State has renewed the Charter of the U.S. National Commission for the United Nations Educational, Scientific, and Cultural Organization (UNESCO).

FOR FURTHER INFORMATION CONTACT: Paul Mungai, U.S. Department of State, Telephone: (202) 663-2407; email: MungaiP@state.gov.

SUPPLEMENTARY INFORMATION: The U.S. National Commission for UNESCO, which operates pursuant to 22 U.S. Code 287o and the requirements of the Federal Advisory Committee Act (FACA), is a Federal Advisory Committee that provides recommendations to the U.S. Department of State.

The Commission's recommendations relate to the formulation and implementation of U.S. policy towards UNESCO on matters of education, science, culture, and communication and information. Also, the Commission functions as a liaison with organizations, institutions, and individuals in the United States interested in the work of UNESCO.

The Commission is comprised of representatives of American organizations and institutions which have an interest in education, science, communications and culture, including professional associations, educational institutions, and non-governmental organizations (NGOs), as well as representatives of federal, state and local governments, and at-large individuals. The Commission meets to provide information on UNESCO related topics and make recommendations.

Kevin E. Bryant,
Deputy Director, Office of Directives Management, Department of State.

[FR Doc. 2024-20914 Filed 9-13-24; 8:45 am]

BILLING CODE 4710-19-P